DEPARTMENT OF JUSTICE

Office of Community Oriented Policing Services; FY 2000 Community Policing Discretionary Grants

AGENCY: Office of Community Oriented Policing Services, Department of Justice.

ACTION: Notice of availability.

SUMMARY: The Department of Justice, Office of Community Oriented Policing Services (“COPS” announces the availability of grants to support the hiring of new, additional civilian support positions under COPS Making Officer Redeployment Effective (“COPS MORE 2000”). Eligible applicants under COPS MORE 2000 are those state, local and other public law enforcement agencies, Indian tribal governments, other public and private entities, and multi-jurisdictional agencies that employ career law enforcement officers.

DATES: COPS MORE 2000 Application Kits will be available after May 30, 2000. The COPS Office will accept applications for COPS MORE 2000 from May 30, 2000 through July 14, 2000. Applications received postmarked on or before June 30, 2000 will be given priority consideration.

ADDRESSES: COPS MORE 2000 Application Kits may be obtained by writing to COPS MORE 2000, The Department of Justice Response Center, 1100 Vermont Avenue NW, Washington, DC 20530, or by calling the Department of Justice Response Center, (202) 307-1480 or 1-800-421-6770, or the full application kit is also available on the COPS Office web site at: http://www.usdoj.gov/cops. Completed application kits should be sent to COPS MORE 2000, 7th Floor, COPS Office, 1100 Vermont Avenue NW, Washington, DC 20530.

FOR FURTHER INFORMATION CONTACT: The Department of Justice Response Center, (202) 307-1480 or 1-800-421-6770.

SUPPLEMENTARY INFORMATION:

Overview

The Violent Crime Control and Law Enforcement Act of 1994 (Pub. L. 103-322) authorizes the Department of Justice to make grants to increase deployment of law enforcement officers devoted to community policing on the streets and rural routes in this nation. COPS MORE 2000 is designed to expand the time available for community policing by current law enforcement officers, rather than fund the hiring or rehiring of additional law enforcement officers.

COPS MORE 2000 permits eligible agencies to seek funding to hire new, additional civilian support positions. To qualify for funding, civilian positions must be hired after the COPS MORE 2000 grant award start date and must increase the level of locally-funded civilian positions budgeted irrespective of the grant.

As a result of this funding, the number of officers redeployed by agencies in community policing must be equal to or greater than the number of officers that would result from grants of the same amount for hiring new officers. Application Kits will be available after May 30, 2000. Completed Applications Kits must be received by the COPS Office by July 14, 2000. Applications received postmarked on or before June 30, 2000 will be given priority consideration.

Applicants must provide a thorough explanation of how the proposed redeployment funds will actually result in the required increase in the number of officers deployed in community policing. Additionally, the applicant must specify within the COPS MORE 2000 Application a plan for retaining the additional civilian positions and continuing the increased level of redeployment into community policing with state or local funds following the conclusions of COPS MORE 2000 funding. Technical assistance with the development of community policing plans will be provided to jurisdictions in need of such assistance. Grants will be made for up to 75 percent of the cost of the civilian salaries up to $25,000 for one year, with the remainder to be paid by state or local funds. Waivers of the non-federal share will be considered upon a showing of severe fiscal distress. COPS redeployment funds may not be used to replace funds that eligible agencies otherwise would have devoted to civilian hiring.

An award under COPS MORE 2000 will not affect the eligibility of an agency's application for a grant under any other COPS program.

The Catalog of Federal Domestic Assistance (CFDA) reference for this program is 16.710.

Dated: May 17, 2000.
Thomas C. Frazier,
Director.

[FR Doc. 00-13018 Filed 5-23-00; 8:45 am]

BILLING CODE 4410-AT-M